DEPARTMENT OF COMMERCE

National Oceanic and Atmospheric Administration

50 CFR Part 679

[Docket No. 161020985-6985-01]

RIN 0648-XE989

Fisheries of the Exclusive Economic Zone Off Alaska; Bering Sea and Aleutian Islands; 2017 and 2018 Harvest Specifications for Groundfish

AGENCY: National Marine Fisheries Service (NMFS), National Oceanic and Atmospheric Administration (NOAA), Commerce.

ACTION: Proposed rule; request for comments.

SUMMARY: NMFS proposes 2017 and 2018 harvest specifications, apportionments, and prohibited species catch allowances for the groundfish fisheries of the Bering Sea and Aleutian Islands (BSAI) management area. This action is necessary to establish harvest limits for groundfish during the 2017 and 2018 fishing years, and to accomplish the goals and objectives of the Fishery Management Plan for Groundfish of the Bering Sea and Aleutian Islands Management Area. The intended effect of this action is to conserve and manage the groundfish resources in the BSAI in accordance with the Magnuson-Stevens Fishery Conservation and Management Act.

DATES: Comments must be received by January 5, 2017.

ADDRESSES: You may submit comments on this document, identified by NOAA-NMFS-2016-0140, by any of the following methods:

• Electronic Submission: Submit all electronic public comments via the Federal e-Rulemaking Portal. Go to www.regulations.gov/#!docketDetail;D=NOAA-NMFS-2016-0140, click the “Comment Now!” icon, complete the required fields, and enter or attach your comments.

• Mail: Submit written comments to Glenn Merrill, Assistant Regional Administrator, Sustainable Fisheries Division, Alaska Region NMFS, Attn: Ellen Sebastian. Mail comments to P.O. Box 21668, Juneau, AK 99802-1668.

Instructions: Comments sent by any other method, to any other address or individual, or received after the end of the comment period, may not be considered by NMFS. All comments received are a part of the public record and will generally be posted for public viewing on www.regulations.gov without change. All personal identifying information (e.g., name, address), confidential business information, or otherwise sensitive information submitted voluntarily by the sender will be publicly accessible. NMFS will accept anonymous comments (enter “N/A” in the required fields if you wish to remain anonymous).

Electronic copies of the Alaska Groundfish Harvest Specifications Final Environmental Impact Statement (Final EIS), Record of Decision (ROD), Supplementary Information Report (SIR) to the EIS, and the Initial Regulatory Flexibility Analysis (IRFA) prepared for this action may be obtained from http://www.regulations.gov or from the Alaska Region Web site at http://alaskafisheries.noaa.gov. The final 2015 Stock Assessment and Fishery Evaluation (SAFE) report for the groundfish resources of the BSAI, dated November 2015, is available from the North Pacific Fishery Management Council (Council) at 605 West 4th Avenue, Suite 306, Anchorage, AK 99501-2252, phone 907-271-2809, or from the Council's Web site at http://www.npfmc.org/. The draft 2016 SAFE report for the BSAI is available from the same source.

FOR FURTHER INFORMATION CONTACT: Steve Whitney, 907-586-7228.

SUPPLEMENTARY INFORMATION: Federal regulations at 50 CFR part 679 implement the Fishery Management Plan for Groundfish of the Bering Sea and Aleutian Islands Management Area (FMP) and govern the groundfish fisheries in the BSAI. The Council prepared the FMP, and NMFS approved it under the Magnuson-Stevens Fishery Conservation and Management Act (Magnuson-Stevens Act). General regulations governing U.S. fisheries also appear at 50 CFR part 600.

The FMP and its implementing regulations require NMFS, after consultation with the Council, to specify annually the total allowable catch (TAC) for each target species category. The sum TAC for all groundfish species must be within the optimum yield (OY) range of 1.4 million to 2.0 million metric tons (mt) (see § 679.20(a)(1)(i)(A)). Section 679.20(c)(1) further requires NMFS to publish proposed harvest specifications in the Federal Register and solicit public comments on proposed annual TACs and apportionments thereof, prohibited species catch (PSC) allowances, prohibited species quota (PSQ) reserves established by § 679.21, seasonal allowances of pollock, Pacific cod, and Atka mackerel TAC, American Fisheries Act allocations, Amendment 80 allocations, and Community Development Quota (CDQ) reserve amounts established by § 679.20(b)(1)(ii). The proposed harvest specifications set forth in Tables 1 through 17 of this action satisfy these requirements.

Under § 679.20(c)(3), NMFS will publish the final harvest specifications for 2017 and 2018 after (1) considering comments received within the comment period (see DATES), (2) consulting with the Council at its December 2016 meeting, (3) considering information presented in the SIR that assesses the need to prepare a Supplemental EIS (see ADDRESSES), and (4) considering information presented in the final 2016 SAFE reports prepared for the 2017 and 2018 groundfish fisheries.

Other Actions Affecting the 2017 and 2018 Harvest Specifications

The Alaska Board of Fisheries (BOF), a regulatory body for the State of Alaska Department of Fish and Game (State), established a guideline harvest level (GHL) in State waters between 164 and 167 degrees west longitude in the Bering Sea subarea (BS) equal to 6.4 percent of the Pacific cod acceptable biological catch (ABC) for the BS. The Council recommends the proposed 2017 and 2018 Pacific cod TACs to accommodate the State's GHLs for Pacific cod in State waters in the BS. The Council and its BSAI Groundfish Plan Team (Plan Team), Scientific and Statistical Committee (SSC), and Advisory Panel (AP) recommended that the sum of all State and Federal water Pacific cod removals from the BS not exceed the proposed ABC recommendations of 255,000 mt. Accordingly, the Council set the proposed 2017 and 2018 Pacific cod TACs in the BS to account for State GHLs.

For 2017 and 2018, the BOF established a GHL in State waters in the Aleutian Islands subarea (AI) equal to 27 percent of the Pacific cod ABC for the AI. The Council recommends the proposed 2017 and 2018 Pacific cod TACs to accommodate the State's GHLs for Pacific cod in State waters in the AI. The Council and its Plan Team, SSC, and AP recommended that the sum of all State and Federal water Pacific cod removals from the AI not exceed the proposed ABC recommendations of 17,600 mt. Accordingly, the Council set the proposed 2017 and 2018 Pacific cod TACs in the AI to account for State GHLs.

In October 2015, the Council took final action to recommend for Secretarial Review Amendment 113 to the BSAI FMP. NMFS published a notice of availability for Amendment 113 on July 19, 2016 (81 FR 46883). The public comment period for the notice of availability on Amendment 113 ended on September 19, 2016, and the Secretary approved Amendment 113 on October 17, 2016. Amendment 113 sets aside a portion of the Aleutian Islands Pacific cod TAC for catcher vessels that directed fish for Aleutian Islands Pacific cod and then deliver the catch to Aleutian Islands shoreplants for processing.

NMFS published a proposed rule to implement Amendment 113 on August 1, 2016, and accepted public comment through August 31, 2016 (81 FR 50444). If NMFS approves the final rule, in November 2016, NMFS expects the authority to set aside Aleutian Islands Pacific cod for catcher vessels delivering to Aleutian Islands shoreplants for processing would be in effect by the beginning of the 2017 fisheries on January 1, 2017.

Amendment 111 to the FMP (81 FR 24714, April 27, 2016) became effective May 27, 2016. Amendment 111 implemented BSAI halibut PSC limit reductions for the trawl and non-trawl sectors. These amounts are found in Table 8.

Amendment 110 to the FMP (81 FR 37534, June 10, 2016) became effective July 11, 2016. Amendment 110 improves the management of Chinook and chum salmon bycatch in the Bering Sea pollock fishery by creating a comprehensive salmon bycatch avoidance program. Amendment 110 also changed the seasonal apportionments of the pollock TAC to allow more pollock to be harvested earlier in the year when Chinook salmon PSC use tends to be lower.

Proposed ABC and TAC Harvest Specifications

At the October 2016 Council meeting, the SSC, AP, and Council reviewed the most recent biological and harvest information on the condition of the BSAI groundfish stocks. The Council's Plan Team compiled and presented this information, which was initially compiled by the Plan Team and presented in the final 2015 SAFE report for the BSAI groundfish fisheries, dated November 2015 (see ADDRESSES). The amounts proposed for the 2017 and 2018 harvest specifications are based on the 2015 SAFE report, and are subject to change in the final harvest specifications to be published by NMFS following the Council's December 2016 meeting. In November 2016, the Plan Team updated the 2015 SAFE report to include new information collected during 2016, such as NMFS stock surveys, revised stock assessments, and catch data. At its December 2016 meeting, the Council will consider information contained in the final 2016 SAFE report, recommendations from the November 2016 Plan Team meeting, public testimony from the December 2016 SSC and AP meetings, and relevant written comments in making its recommendations for the final 2017 and 2018 harvest specifications.

In previous years, the OFLs and ABCs that have had the most significant changes (relative to the amount of assessed tonnage of fish) from the proposed to the final harvest specifications have been for OFLs and ABCs that are based on the most recent NMFS stock surveys, which provide updated estimates of stock biomass and spatial distribution, and changes to the models used in the stock assessments. These changes were recommended by the Plan Team in November 2016 and are included in the final 2016 SAFE report. The final 2016 SAFE report includes the most recent information, such as 2016 catch data. The final harvest specification amounts for these stocks are not expected to vary greatly from the proposed harvest specification amounts published here.

If the final 2016 SAFE report indicates that the stock biomass trend is increasing for a species, then the final 2017 and 2018 harvest specifications may reflect an increase from the proposed harvest specifications. Conversely, if the final 2016 SAFE report indicates that the stock biomass trend is decreasing for a species, then the final 2017 and 2018 harvest specifications may reflect a decrease from the proposed harvest specifications. In addition to changes driven by biomass trends, there may be changes in TACs due to the sum of ABCs exceeding 2 million mt. Since the regulations require TACs to be set to an OY between 1.4 and 2 million mt, the Council may be required to recommend TACs that are lower than the ABCs recommended by the Plan Team, if setting TACs equal to ABCs would cause TACs to exceed an OY of 2 million mt. Generally, ABCs greatly exceed 2 million mt in years with a large pollock biomass. NMFS anticipates that, both for 2017 and 2018, the sum of the ABCs will exceed 2 million mt. NMFS expects that the final total TAC for the BSAI for both 2017 and 2018 will equal 2 million mt.

The proposed ABCs and TACs are based on the best available biological and socioeconomic data, including projected biomass trends, information on assumed distribution of stock biomass, and revised technical methods used to calculate stock biomass. In general, the development of ABCs and OFLs involves statistical modeling of fish populations. The FMP specifies a series of six tiers to define OFLs and ABCs based on the level of reliable information available to fishery scientists. Tier 1 represents the highest level of information quality available, while Tier 6 represents the lowest.

In October 2016, the SSC adopted the proposed 2017 and 2018 OFLs and ABCs recommended by the Plan Team for all groundfish species. The Council adopted the SSC's OFL and ABC recommendations. These amounts are unchanged from the final 2017 harvest specifications published in the Federal Register on March 18, 2016 (81 FR 14773). The Council adopted the AP's TAC recommendations. For 2017 and 2018, the Council recommended and NMFS proposes the OFLs, ABCs, and TACs listed in Table 1. The proposed ABCs reflect harvest amounts that are less than the specified OFLs. The sum of the proposed 2017 and 2018 ABCs for all assessed groundfish is 3,128,135 mt, which is the same as the final 2017 ABC total in the final 2016 and 2017 BSAI groundfish harvest specifications (81 FR 14773, March 18, 2016).

Specification and Apportionment of TAC Amounts

The Council recommended proposed TACs for 2017 and 2018 that are equal to proposed ABCs for Bering Sea Pacific ocean perch, Bering Sea sablefish, AI sablefish, and eastern Aleutian Islands (EAI) Pacific ocean perch. The Council recommended proposed TACs for 2017 and 2018 that are less than the proposed ABCs for Bering Sea pollock, AI “other rockfish,” AI pollock, Bogoslof pollock, Bering Sea Pacific cod, AI Pacific cod, yellowfin sole, Bering Sea Greenland turbot, AI Greenland turbot, arrowtooth flounder, Kamchatka flounder, rock sole, flathead sole, Alaska plaice, “other flatfish,” central Aleutian Islands (CAI) Pacific ocean perch, western Aleutian Islands (WAI) Pacific ocean perch, northern rockfish, eastern Bering Sea (EBS)/EAI rougheye rockfish, CAI/WAI rougheye rockfish, shortraker rockfish, Bering Sea “other rockfish,” Bering Sea/EAI, CAI, and WAI Atka mackerel, skates, sculpins, sharks, squids, and octopuses. Section 679.20(a)(5)(iii)(B)(1) requires the AI pollock TAC to be set at 19,000 mt when the AI pollock ABC equals or exceeds 19,000 mt. The Bogoslof pollock TAC is set to accommodate incidental catch amounts. TACs are set so that the sum of the overall TAC does not exceed the BSAI OY.

The proposed groundfish OFLs, ABCs, and TACs are subject to change pending the completion of the final 2016 SAFE report and the Council's recommendations for final 2017 and 2018 harvest specifications during its December 2016 meeting. These proposed amounts are consistent with the biological condition of groundfish stocks as described in the 2015 SAFE report, and have been adjusted for other biological and socioeconomic considerations. Pursuant to Section 3.2.3.4.1 of the FMP, the Council could recommend adjusting the TACs if “warranted on the basis of bycatch considerations, management uncertainty, or socioeconomic considerations; or if required in order to cause the sum of the TACs to fall within the OY range.” Table 1 lists the proposed 2017 and 2018 OFL, ABC, TAC, initial TAC (ITAC), and CDQ amounts for groundfish for the BSAI. The proposed apportionment of TAC amounts among fisheries and seasons is discussed below.

Table 1—Proposed 2017 and 2018 Overfishing Level (OFL), Acceptable Biological Catch (ABC), Total Allowable Catch (TAC), Initial TAC (ITAC), and CDQ Reserve Allocation of Groundfish in the BSAI¹
[Amounts are in metric tons]
Species | Area | Proposed 2017 and 2018: OFL | Proposed 2017 and 2018: ABC | Proposed 2017 and 2018: TAC | Proposed 2017 and 2018: ITAC ² | Proposed 2017 and 2018: CDQ 3 4
Pollock ⁴ | BS | 3,540,000 | 2,019,000 | 1,340,643 | 1,206,579 | 134,064
| AI | 44,455 | 36,664 | 19,000 | 17,100 | 1,900
| Bogoslof | 31,906 | 23,850 | 500 | 500 |
Pacific cod ⁵ | BS | 412,000 | 255,000 | 238,680 | 213,141 | 25,539
| AI | 23,400 | 17,600 | 12,839 | 11,465 | 1,374
Sablefish | BS | 1,241 | 1,052 | 1,052 | 447 | 39
| AI | 1,681 | 1,423 | 1,423 | 302 | 27
Yellowfin sole | BSAI | 219,200 | 203,500 | 144,000 | 128,592 | 15,408
Greenland turbot | BSAI | 7,416 | 6,132 | 2,873 | 2,442 | n/a
| BS | n/a | 4,734 | 2,673 | 2,272 | 286
| AI | n/a | 1,398 | 200 | 170 |
Arrowtooth flounder | BSAI | 84,156 | 72,216 | 14,000 | 11,900 | 1,498
Kamchatka flounder | BSAI | 11,700 | 10,000 | 5,000 | 4,250 |
Rock sole ⁶ | BSAI | 149,400 | 145,000 | 57,100 | 50,990 | 6,110
Flathead sole ⁷ | BSAI | 77,544 | 64,580 | 21,000 | 18,753 | 2,247
Alaska plaice | BSAI | 46,800 | 39,100 | 14,500 | 12,325 |
Other flatfish ⁸ | BSAI | 17,414 | 13,061 | 2,500 | 2,125 |
Pacific Ocean perch | BSAI | 38,589 | 31,724 | 31,490 | 27,779 | n/a
| BS | n/a | 7,953 | 7,953 | 6,760 |
| EAI | n/a | 7,537 | 7,537 | 6,731 | 806
| CAI | n/a | 7,002 | 7,000 | 6,251 | 749
| WAI | n/a | 9,232 | 9,000 | 8,037 | 963
Northern rockfish | BSAI | 14,085 | 11,468 | 4,500 | 3,825 |
Rougheye | BSAI | 855 | 694 | 300 | 255 |
rockfish ⁹ | EBS/EAI | n/a | 216 | 100 | 85 |
| CAI/WAI | n/a | 478 | 200 | 170 |
Shortraker rockfish | BSAI | 690 | 518 | 200 | 170 |
Other rockfish ¹⁰ | BSAI | 1,667 | 1,250 | 875 | 744 |
| BS | n/a | 695 | 325 | 276 |
| AI | n/a | 555 | 550 | 468 |
Atka mackerel | BSAI | 99,490 | 85,840 | 55,000 | 49,115 | 5,885
| EAI/BS | n/a | 29,296 | 28,500 | 25,451 | 3,050
| CAI | n/a | 25,860 | 16,000 | 14,288 | 1,712
| WAI | n/a | 30,684 | 10,500 | 9,377 | 1,124
Skates | BSAI | 47,674 | 39,943 | 26,000 | 22,100 |
Sculpins | BSAI | 52,365 | 39,725 | 4,500 | 3,825 |
Sharks | BSAI | 1,363 | 1,022 | 125 | 106 |
Squids | BSAI | 6,912 | 5,184 | 1,500 | 1,275 |
Octopuses | BSAI | 3,452 | 2,589 | 400 | 340 |
Total |  | 4,935,455 | 3,128,135 | 2,000,000 | 1,790,446 | 196,895
¹ These amounts apply to the entire BSAI management area unless otherwise specified. With the exception of pollock, and for the purpose of these harvest specifications, the Bering Sea (BS) subarea includes the Bogoslof District.
² Except for pollock, the portion of the sablefish TAC allocated to hook-and-line and pot gear, and the Amendment 80 species (Atka mackerel, Aleutian Islands Pacific ocean perch, yellowfin sole, rock sole, flathead sole, and Pacific cod), 15 percent of each TAC is put into a reserve. The ITAC for these species is the remainder of the TAC after the subtraction of these reserves.
³ For the Amendment 80 species (Atka mackerel, Aleutian Islands Pacific ocean perch, yellowfin sole, rock sole, flathead sole, and Pacific cod), 10.7 percent of the TAC is reserved for use by CDQ participants (see §§ 679.20(b)(1)(ii)(C) and 679.31). Twenty percent of the sablefish TAC is allocated to hook-and-line gear or pot gear, and 7.5 percent of the sablefish TAC is allocated to trawl gear. The 2017 hook-and-line and pot gear portion of the sablefish ITAC and CDQ reserve will not be specified until the final 2017 and 2018 harvest specifications. 10.7 percent of the TACs for Bering Sea Greenland turbot and arrowtooth flounder are reserved for use by CDQ participants (see § 679.20(b)(1)(ii)(B) and (D)). Aleutian Islands Greenland turbot, “other flatfish,” Alaska plaice, Bering Sea Pacific ocean perch, Kamchatka flounder, northern rockfish, shortraker rockfish, rougheye rockfish, “other rockfish,” squids, octopuses, skates, sculpins, and sharks are not allocated to the CDQ program.
⁴ Under § 679.20(a)(5)(i)(A)(1), the annual Bering Sea subarea pollock TAC, after subtracting first for the CDQ directed fishing allowance (10 percent) and second for the incidental catch allowance (4.0 percent), is further allocated by sector for a directed pollock fishery as follows: inshore—50 percent; catcher/processor—40 percent; and motherships—10 percent. Under § 679.20(a)(5)(iii)(B)(2)(i) and (ii), the annual Aleutian Islands subarea pollock TAC, after subtracting first for the CDQ directed fishing allowance (10 percent) and second for the incidental catch allowance (2,400 mt), is allocated to the Aleut Corporation for a directed pollock fishery.
⁵ The Bering Sea subarea and Aleutian Islands subarea Pacific cod TACs are set to account for the State of Alaska guideline harvest level in state waters of the Aleutian Islands subarea.
⁶ “Rock sole” includes Lepidopsetta polyxystra (Northern rock sole) and Lepidopsetta bilineata (Southern rock sole).
⁷ “Flathead sole” includes Hippoglossoides elassodon (flathead sole) and Hippoglossoides robustus (Bering flounder).
⁸ “Other flatfish” includes all flatfish species, except for halibut (a prohibited species), flathead sole, Greenland turbot, rock sole, yellowfin sole, arrowtooth flounder, Kamchatka flounder, and Alaska plaice.
⁹ “Rougheye rockfish” includes Sebastes aleutianus (rougheye) and Sebastes melanostictus (blackspotted).
¹⁰ “Other rockfish” includes all Sebastes and Sebastolobus species except for Pacific ocean perch, northern, shortraker, and rougheye rockfish.
Note: Regulatory areas and districts are defined at § 679.2 (BS=Bering Sea subarea, AI=Aleutian Islands subarea, EAI=Eastern Aleutian district, CAI=Central Aleutian district, WAI=Western Aleutian district.)

Groundfish Reserves and the Incidental Catch Allowance (ICA) for Pollock, Atka Mackerel, Flathead Sole, Rock Sole, Yellowfin Sole, and AI Pacific Ocean Perch

Section 679.20(b)(1)(i) requires NMFS to reserve 15 percent of the TAC for each target species category, except for pollock, hook-and-line or pot gear allocation of sablefish, and Amendment 80 species, in a non-specified reserve. Section 679.20(b)(1)(ii)(B) requires NMFS to allocate 20 percent of the hook-and-line and pot gear allocation of sablefish to the fixed gear sablefish CDQ reserve. Section 679.20(b)(1)(ii)(D) requires NMFS to allocate 7.5 percent of the trawl gear allocation of sablefish and 10.7 percent of Bering Sea Greenland turbot and arrowtooth flounder to the respective CDQ reserves. Section 679.20(b)(1)(ii)(C) requires NMFS to allocate 10.7 percent of the TACs for Atka mackerel, AI Pacific ocean perch, yellowfin sole, rock sole, flathead sole, and Pacific cod to the CDQ reserves. Sections 679.20(a)(5)(i)(A) and 679.31(a) also require allocation of 10 percent of the BS pollock TACs to the pollock CDQ directed fishing allowance (DFA). The entire Bogoslof District pollock TAC is allocated as an ICA (see § 679.20(a)(5)(ii)). With the exception of the hook-and-line and pot gear sablefish CDQ reserve, the regulations do not further apportion the CDQ reserves by gear.

Pursuant to § 679.20(a)(5)(i)(A)(1), NMFS proposes a pollock ICA of 4.0 percent or 53,626 mt of the Bering Sea subarea pollock TAC after subtracting the 10 percent CDQ reserve. This allowance is based on NMFS' examination of the pollock incidentally retained and discarded catch, including the incidental catch by CDQ vessels, in target fisheries other than pollock from 2000 through 2016. During this 17-year period, the pollock incidental catch ranged from a low of 2.4 percent in 2006 to a high of 4.8 percent in 2014, with a 17-year average of 3.2 percent. Pursuant to § 679.20(a)(5)(iii)(B)(2)(i) and (ii), NMFS proposes a pollock ICA of 2,400 mt of the AI subarea TAC after subtracting the 10 percent CDQ DFA. This allowance is based on NMFS' examination of the pollock incidental catch, including the incidental catch by CDQ vessels, in target fisheries other than pollock from 2003 through 2016. During this 14-year period, the incidental catch of pollock ranged from a low of 5 percent in 2006 to a high of 17 percent in 2013, with a 14-year average of 8 percent.

Pursuant to § 679.20(a)(8) and (10), NMFS proposes ICAs of 4,000 mt of flathead sole, 5,000 mt of rock sole, 4,500 mt of yellowfin sole, 10 mt of Western Aleutian District Pacific ocean perch, 60 mt of Central Aleutian District Pacific ocean perch, 100 mt of Eastern Aleutian District Pacific ocean perch, 20 mt of Western Aleutian District Atka mackerel, 75 mt of Central Aleutian District Atka mackerel, and 1,000 mt of Eastern Aleutian District and Bering Sea subarea Atka mackerel after subtracting the 10.7 percent CDQ reserve. These ICAs are based on NMFS' examination of the average incidental retained and discarded catch in other target fisheries from 2003 through 2016.

The regulations do not designate the remainder of the non-specified reserve by species or species group. Any amount of the reserve may be apportioned to a target species that contributed to the non-specified reserve during the year, provided that such apportionments do not result in overfishing (see § 679.20(b)(1)(i)).

Allocations of Pollock TAC Under the American Fisheries Act (AFA)

Section 679.20(a)(5)(i)(A) requires that Bering Sea pollock TAC be apportioned after subtracting 10 percent for the CDQ program and 4.0 percent for the ICA as a DFA as follows: 50 percent to the inshore sector, 40 percent to the catcher/processor sector, and 10 percent to the mothership sector. In the Bering Sea subarea, 45 percent of the DFA is allocated to the A season (January 20 to June 10) and 55 percent of the DFA is allocated to the B season (June 10 to November 1) (§§ 679.20(a)(5)(i)(B)(1) and 679.23(e)(2)). The AI directed pollock fishery allocation to the Aleut Corporation is the amount of pollock remaining in the AI subarea after subtracting 1,900 mt for the CDQ DFA (10 percent), and 2,400 mt for the ICA (§ 679.20(a)(5)(iii)(B)(2)(i)-(iii)). In the AI subarea, the total A season apportionment of the pollock TAC may equal up to 40 percent of the ABC, and the remainder of the pollock TAC is allocated to the B season (§ 679.20(a)(5)(iii)(B)(3)). Table 2 lists these proposed 2017 and 2018 amounts.

Section 679.20(a)(5)(iii)(B)(6) sets harvest limits for pollock in the A season (January 20 to June 10) in Areas 543, 542, and 541. In Area 543, the A season pollock harvest limit is no more than 5 percent of the Aleutian Islands pollock ABC. In Area 542, the A season pollock harvest limit is no more than 15 percent of the Aleutian Islands ABC. In Area 541, the A season pollock harvest limit is no more than 30 percent of the Aleutian Islands ABC.

Section 679.20(a)(5)(i)(A)(4) also includes several specific requirements regarding Bering Sea subarea pollock allocations. First, it requires that 8.5 percent of the pollock allocated to the catcher/processor sector be available for harvest by AFA catcher vessels with catcher/processor sector endorsements, unless the Regional Administrator receives a cooperative contract that allows the distribution of harvest among AFA catcher/processors and AFA catcher vessels in a manner agreed to by all members. Second, AFA catcher/processors not listed in the AFA are limited to harvesting not more than 0.5 percent of the pollock allocated to the catcher/processor sector. Table 2 lists the proposed 2017 and 2018 allocations of pollock TAC. Tables 14 through 17 list the AFA catcher/processor and catcher vessel harvesting sideboard limits. The Bering Sea subarea inshore pollock cooperative and open access sector allocations are based on the submission of AFA inshore cooperative applications due to NMFS on December 1 of each calendar year. Because AFA inshore cooperative applications for 2017 have not been submitted to NMFS, and NMFS therefore cannot calculate 2017 allocations, NMFS has not included inshore cooperative text and tables in these proposed harvest specifications. NMFS will post 2017 AFA inshore cooperative allocations on the Alaska Region Web site at http://alaskafisheries.noaa.gov prior to the start of the fishing year on January 1, 2017, based on the harvest specifications effective on that date.

Table 2 also lists proposed seasonal apportionments of pollock and harvest limits within the Steller Sea Lion Conservation Area (SCA). The harvest of pollock within the SCA, as defined at § 679.22(a)(7)(vii), is limited to no more than 28 percent of the DFA before noon, April 1, as provided in § 679.20(a)(5)(i)(C). The A season pollock SCA harvest limit will be apportioned to each sector in proportion to each sector's allocated percentage of the DFA. Table 2 lists these proposed 2017 and 2018 amounts by sector.

Table 2—Proposed 2017 and 2018 Allocations of Pollock Tacs to the Directed Pollock Fisheries and to the CDQ Directed Fishing Allowances (DFA) ¹
[Amounts are in metric tons]
Area and sector | 2017 and 2018 Allocations | A season ¹: A season DFA | A season ¹: SCA harvest limit ² | B season ¹: B season DFA
Bering Sea subarea TAC | 1,340,643 | n/a | n/a | n/a
CDQ DFA | 134,064 | 60,329 | 37,538 | 73,735
ICA ¹ | 48,263 | n/a | n/a | n/a
AFA Inshore | 579,158 | 260,621 | 162,164 | 318,537
AFA Catcher/Processors ³ | 463,326 | 208,497 | 129,731 | 254,829
Catch by C/Ps | 423,943 | 190,775 | n/a | 233,169
Catch by C/Vs ³ | 39,383 | 17,722 | n/a | 21,661
Unlisted C/P Limit ⁴ | 2,317 | 1,042 | n/a | 1,274
AFA Motherships | 115,832 | 52,124 | 32,433 | 63,707
Excessive Harvesting Limit ⁵ | 202,705 | n/a | n/a | n/a
Excessive Processing Limit ⁶ | 347,495 | n/a | n/a | n/a
Total Bering Sea DFA (non-CDQ) | 1,158,316 | 521,242 | 324,328 | 637,074
Aleutian Islands subarea ABC | 36,664 | n/a | n/a | n/a
Aleutian Islands subarea TAC | 19,000 | n/a | n/a | n/a
CDQ DFA | 1,900 | 760 | n/a | 1,140
ICA | 2,400 | 1,200 | n/a | 1,200
Aleut Corporation | 14,700 | 13,520 | n/a | 1,180
Area harvest limit ⁷ | n/a | n/a | n/a | n/a
Area 541 harvest limit ⁷ | 10,999 | n/a | n/a | n/a
Area 542 harvest limit ⁷ | 5,500 | n/a | n/a | n/a
Area 543 harvest limit ⁷ | 1,833 | n/a | n/a | n/a
Bogoslof District ICA ⁸ | 100 | n/a | n/a | n/a
¹ Pursuant to § 679.20(a)(5)(i)(A), the annual Bering Sea subarea pollock TAC, after subtracting the CDQ DFA (10 percent) and the ICA (4.0 percent), is allocated as a DFA as follows: inshore sector 50 percent, catcher/processor sector 40 percent, and mothership sector 10 percent. In the Bering Sea subarea, 45 percent of the DFA is allocated to the A season (January 20-June 10) and 55 percent of the DFA is allocated to the B season (June 10-November 1). Pursuant to § 679.20(a)(5)(iii)(B)(2)(i) and (ii), the annual AI pollock TAC, after subtracting first for the CDQ DFA (10 percent) and second the ICA (2,400 mt), is allocated to the Aleut Corporation for a directed pollock fishery. In the AI subarea, the A season is allocated 40 percent of the ABC, and the B season is allocated the remainder of the directed pollock fishery.
² In the Bering Sea subarea, no more than 28 percent of each sector's annual DFA may be taken from the SCA before noon, April 1.
³ Pursuant to § 679.20(a)(5)(i)(A)(4), not less than 8.5 percent of the DFA allocated to listed catcher/processors (C/Ps) shall be available for harvest only by eligible catcher vessels (CVs) delivering to listed C/Ps.
⁴ Pursuant to § 679.20(a)(5)(i)(A)(4)(iii), the AFA unlisted catcher/processors are limited to harvesting not more than 0.5 percent of the catcher/processor sector's allocation of pollock.
⁵ Pursuant to § 679.20(a)(5)(i)(A)(6), NMFS establishes an excessive harvesting share limit equal to 17.5 percent of the sum of the pollock DFAs not including CDQ.
⁶ Pursuant to § 679.20(a)(5)(i)(A)(7), NMFS establishes an excessive processing share limit equal to 30.0 percent of the sum of the pollock DFAs not including CDQ.
⁷ Pursuant to § 679.20(a)(5)(iii)(B)(6), NMFS establishes harvest limits for pollock in the A season in Area 541 no more than 30 percent, in Area 542 no more than 15 percent, and in Area 543 no more than 5 percent of the Aleutian Islands pollock ABC.
⁸ The Regional Administrator proposes closing the Bogoslof pollock fishery for directed fishing under the final 2017 and 2018 harvest specifications for the BSAI. The amounts specified are for incidental catch only and are not apportioned by season or sector.

Allocation of the Atka Mackerel TACs

Section 679.20(a)(8) allocates the Atka mackerel TACs to the Amendment 80 and BSAI trawl limited access sectors, after subtracting the CDQ reserves, jig gear allocation, and ICAs for the BSAI trawl limited access sector and non-trawl gear sectors (Table 3). The percentage of the ITAC for Atka mackerel allocated to the Amendment 80 and BSAI trawl limited access sectors is listed in Table 33 to 50 CFR part 679 and in § 679.91. Pursuant to § 679.20(a)(8)(i), up to 2 percent of the Eastern Aleutian District and Bering Sea subarea Atka mackerel ITAC may be allocated to jig gear. The percentage of this allocation is recommended annually by the Council based on several criteria, including the anticipated harvest capacity of the jig gear fleet. The Council recommended and NMFS proposes a 0.5 percent allocation of the Atka mackerel ITAC in the Eastern Aleutian District and Bering Sea subarea to jig gear in 2017 and 2018. This percentage is applied to the TAC after subtracting the CDQ reserve and the ICA.

Section 679.20(a)(8)(ii)(A) apportions the Atka mackerel TAC into two equal seasonal allowances. Section 679.23(e)(3) sets the first seasonal allowance for directed fishing with trawl gear from January 20 through June 10 (A season), and the second seasonal allowance from June 10 through December 31 (B season). Section 679.23(e)(4)(iii) applies Atka mackerel seasons to CDQ Atka mackerel fishing. The ICA and jig gear allocations are not apportioned by season.

Section 679.20(a)(8)(ii)(C)(1)(i) and (ii) limits Atka mackerel catch within waters 0 nm to 20 nm of Steller sea lion sites listed in Table 6 to 50 CFR part 679 and located west of 178° W longitude to no more than 60 percent of the annual TACs in Areas 542 and 543; and equally divides the annual TAC between the A and B seasons as defined at § 679.23(e)(3). Section 679.20(a)(8)(ii)(C)(2) requires the annual TAC in Area 543 will be no more than 65 percent of the ABC in Area 543. Section 679.20(a)(8)(ii)(D) requires that any unharvested Atka mackerel A season allowance that is added to the B season be prohibited from being harvested within waters 0 nm to 20 nm of Steller sea lion sites listed in Table 6 to 50 CFR part 679 and located in Areas 541, 542, and 543.

Two Amendment 80 cooperatives have formed for the 2017 fishing year. Because all Amendment 80 vessels are part of a cooperative, no allocation to the Amendment 80 limited access sector is required. NMFS will post 2017 Amendment 80 cooperative allocations on the Alaska Region Web site at http://alaskafisheries.noaa.gov prior to the start of the fishing year on January 1, 2017, based on the harvest specifications effective on that date.

Table 3 lists these 2017 and 2018 Atka mackerel season allowances, area allowances, and the sector allocations. The 2018 allocations for Amendment 80 species between Amendment 80 cooperatives and the Amendment 80 limited access sector will not be known until eligible participants apply for participation in the program by November 1, 2017. NMFS will post 2018 Amendment 80 cooperatives and Amendment 80 limited access allocations on the Alaska Region Web site at http://alaskafisheries.noaa.gov prior to the start of the fishing year on January 1, 2018, based on the harvest specifications effective on that date.

Table 3—Proposed 2017 and 2018 Seasonal and Spatial Allowances, Gear Shares, CDQ Reserve, Incidental Catch Allowance, and Amendment 80 Allocations of the BSAI Atka Mackerel TAC
[Amounts are in metric tons]
Sector ¹ | Season ² ³ ⁴ | 2017 and 2018 Allocation by area: Eastern Aleutian District/Bering Sea | 2017 and 2018 Allocation by area: Central Aleutian District | 2017 and 2018 Allocation by area: Western Aleutian District
TAC | n/a | 28,500 | 16,000 | 10,500
CDQ reserve | Total | 3,050 | 1,712 | 1,124
| A | 1,525 | 856 | 562
| Critical habitat ⁵ | n/a | 514 | 337
| B | 1,525 | 856 | 562
| Critical habitat ⁵ | n/a | 514 | 337
ICA | Total | 1,000 | 75 | 20
Jig ⁶ | Total | 122 |  |
BSAI trawl limited access | Total | 2,433 | 1,421 |
| A | 1,216 | 711 |
| Critical habitat ⁵ | n/a | 426 |
| B | 1,216 | 711 |
| Critical habitat ⁵ | n/a | 426 |
Amendment 80 ⁷ | Total | 21,895 | 12,792 | 9,357
Alaska Groundfish Cooperative for 2017 | Total | 12,326 | 7,615 | 5,754
| A | 6,163 | 3,808 | 2,877
| Critical habitat ⁵ | n/a | 2,285 | 1,726
| B | 6,163 | 3,808 | 2,877
| Critical habitat ⁵ | n/a | 2,285 | 1,726
Alaska Seafood Cooperative for 2017 | Total | 9,570 | 5,177 | 3,603
| A | 4,785 | 2,589 | 1,802
| Critical habitat ⁵ | n/a | 1,553 | 1,081
| B | 4,785 | 2,589 | 1,802
| Critical habitat ⁵ | n/a | 1,553 | 1,081
¹ Section 679.20(a)(8)(ii) allocates the Atka mackerel TACs, after subtracting the CDQ reserves, ICAs, and the jig gear allocation, to the Amendment 80 and BSAI trawl limited access sectors. The allocation of the ITAC for Atka mackerel to the Amendment 80 and BSAI trawl limited access sectors is established in Table 33 to 50 CFR part 679 and § 679.91. The CDQ reserve is 10.7 percent of the TAC for use by CDQ participants (see §§ 679.20(b)(1)(ii)(C) and 679.31).
² Sections 679.20(a)(8)(ii)(A) and 679.22(a) establish temporal and spatial limitations for the Atka mackerel fishery.
³ The seasonal allowances of Atka mackerel are 50 percent in the A season and 50 percent in the B season.
⁴ Section 679.23(e)(3) authorizes directed fishing for Atka mackerel with trawl gear during the A season from January 20 to June 10, and the B season from June 10 to December 31.
⁵ Section 679.20(a)(8)(ii)(C)(1)(i) limits no more than 60 percent of the annual TACs in Areas 542 and 543 to be caught inside of critical habitat; paragraph (a)(ii)(C)(1)(ii) equally divides the annual TACs between the A and B seasons as defined at § 679.23(e)(3); and paragraph (a)(8)(ii)(C)(2) requires the TAC in Area 543 shall be no more than 65 percent of ABC.
⁶ Section 679.20(a)(8)(i) requires that up to 2 percent of the Eastern Aleutian District and Bering Sea subarea TAC be allocated to jig gear after subtraction of the CDQ reserve and ICA. The amount of this allocation is 0.5 percent. The jig gear allocation is not apportioned by season.
⁷ The 2018 allocations for Amendment 80 Atka mackerel between Amendment 80 cooperatives and the Amendment 80 limited access sector will not be known until eligible participants apply for participation in the program by November 1, 2017.

Allocation of the Pacific Cod TAC

The Council recommended and NMFS proposes separate BS and AI subarea OFLs, ABCs, and TACs for Pacific cod. Section 679.20(b)(1)(ii)(C) allocates 10.7 percent of the BS TAC and the AI TAC to the CDQ program. After CDQ allocations have been deducted from the respective BS and AI Pacific cod TACs, the remaining BS and AI Pacific cod TACs are combined for calculating further BSAI Pacific cod sector allocations. However, if the non-CDQ Pacific cod TAC is or will be reached in either the BS or AI subareas, NMFS will prohibit non-CDQ directed fishing for Pacific cod in that subarea, as provided in § 679.20(d)(1)(iii).

Section 679.20(a)(7)(i) and (ii) allocates the Pacific cod TAC in the combined BSAI TAC, after subtracting 10.7 percent for the CDQ program, as follows: 1.4 percent to vessels using jig gear, 2.0 percent to hook-and-line or pot catcher vessels less than 60 ft (18.3 m) length overall (LOA), 0.2 percent to hook-and-line catcher vessels greater than or equal to 60 ft (18.3 m) LOA, 48.7 percent to hook-and-line catcher/processors, 8.4 percent to pot catcher vessels greater than or equal to 60 ft (18.3 m) LOA, 1.5 percent to pot catcher/processors, 2.3 percent to AFA trawl catcher/processors, 13.4 percent to non-AFA trawl catcher/processors, and 22.1 percent to trawl catcher vessels. The BSAI ICA for the hook-and-line and pot sectors will be deducted from the aggregate portion of BSAI Pacific cod TAC allocated to the hook-and-line and pot sectors. For 2017 and 2018, the Regional Administrator proposes a BSAI ICA of 500 mt, based on anticipated incidental catch by these sectors in other fisheries.

The BSAI ITAC allocation of Pacific cod to the Amendment 80 sector is established in Table 33 to 50 CFR part 679 and § 679.91. Two Amendment 80 cooperatives have formed for the 2017 fishing year. Because all Amendment 80 vessels are part of a cooperative, no allocation to the Amendment 80 limited access sector is required. NMFS will post 2017 Amendment 80 cooperative allocations on the Alaska Region Web site at http://alaskafisheries.noaa.gov prior to the start of the fishing year on January 1, 2017, based on the harvest specifications effective on that date.

The 2018 allocations for Amendment 80 species between Amendment 80 cooperatives and the Amendment 80 limited access sector will not be known until eligible participants apply for participation in the program by November 1, 2017. NMFS will post 2018 Amendment 80 cooperatives and Amendment 80 limited access allocations on the Alaska Region Web site at http://alaskafisheries.noaa.gov prior to the start of the fishing year on January 1, 2018, based on the harvest specifications effective on that date.

The Pacific cod ITAC is apportioned into seasonal allowances to disperse the Pacific cod fisheries over the fishing year (see §§ 679.20(a)(7), (a)(7)(iv)(A), and 679.23(e)(5)). In accordance with § 679.20(a)(7)(iv)(B) and (C), any unused portion of a seasonal Pacific cod allowance will become available at the beginning of the next seasonal allowance.

Section 679.20(a)(7)(vii) requires the Regional Administrator to establish an Area 543 Pacific cod harvest limit based on Pacific cod abundance in Area 543. Based on the 2015 stock assessment, the Regional Administrator determined the Area 543 Pacific cod harvest limit to be 26.3 percent of the AI Pacific cod TAC for 2017 and 2018. NMFS first subtracted the State GHL Pacific cod amount from the AI Pacific cod ABC and then multiplied the remaining ABC for AI Pacific cod by the percentage of Pacific cod estimated in Area 543. Based on these calculations, the Area 543 harvest limit is 3,379 mt.

The CDQ and non-CDQ season allowances by gear based on the proposed 2017 and 2018 Pacific cod TACs are listed in Table 4 based on the sector allocation percentages of Pacific cod set forth at § 679.20(a)(7)(i)(B) and (a)(7)(iv)(A); and the seasonal allowances of Pacific cod set forth at § 679.23(e)(5).

Table 4—Proposed 2017 and 2018 Gear Shares and Seasonal Allowances of the BSAI ¹ Pacific Cod TAC
[Amounts are in metric tons]
Sector | Percent | 2017 and 2018 share of gear sector total | 2017 and 2018 share of sector total | 2017 and 2018 seasonal apportionment: Season | 2017 and 2018 seasonal apportionment: Amount
Total Bering Sea TAC | n/a | 238,680 | n/a | n/a | n/a
Bering Sea CDQ | n/a | 25,539 | n/a | See § 679.20(a)(7)(i)(B) | n/a
Bering Sea non-CDQ TAC | n/a | 213,141 | n/a | n/a | n/a
Total Aleutian Islands TAC | n/a | 12,839 | n/a | n/a | n/a
Aleutian Islands CDQ | n/a | 1,374 | n/a | See § 679.20(a)(7)(i)(B) | n/a
Aleutian Islands non-CDQ TAC | n/a | 11,465 | n/a | n/a | n/a
Western Aleutians Islands Limit | n/a | 3,379 | n/a | n/a | n/a
Total BSAI non-CDQ TAC ¹ | 100 | 224,606 | n/a | n/a | n/a
Total hook-and-line/pot gear | 60.8 | 136,561 | n/a | n/a | n/a
Hook-and-line/pot ICA ² | n/a | n/a | 500 | n/a | n/a
Hook-and-line/pot sub-total | n/a | 136,061 | n/a | n/a | n/a
Hook-and-line catcher/processors | 48.7 | n/a | 108,983 | Jan 1-Jun 10 Jun 10-Dec 31 | 55,581 53,402
Hook-and-line catcher vessels >60 ft LOA | 0.2 | n/a | 448 | Jan 1-Jun 10 Jun 10-Dec 31 | 228 219
Pot catcher/processors | 1.5 | n/a | 3,357 | Jan 1-Jun 10 Sept 1-Dec 31 | 1,712 1,645
Pot catcher vessels >60 ft LOA | 8.4 | n/a | 18,798 | Jan 1-Jun 10 Sept 1-Dec 31 | 9,587 9,211
Catcher vessels <60 ft LOA using hook-and-line or pot gear | 2 | n/a | 4,476 | n/a | n/a
Trawl catcher vessels | 22.1 | 49,638 | n/a | Jan 20-Apr 1 Apr 1-Jun 10 Jun 10-Nov 1 | 36,732 5,460 7,446
AFA trawl catcher/processors | 2.3 | 5,166 | n/a | Jan 20-Apr 1 Apr 1-Jun 10 Jun 10-Nov 1 | 3,874 1,291 0
Amendment 80 | 13.4 | 30,097 | n/a | Jan 20-Apr 1 Apr 1-Jun 10 Jun 10-Nov 1 | 22,573 7,524 0
Alaska Groundfish Cooperative for 2017 ³ | n/a | 4,751 | n/a | Jan 20-Apr 1 Apr 1-Jun 10 Jun 10-Nov 1 | 3,563 1,188 0
Alaska Seafood Cooperative for 2017 ³ | n/a | 25,346 | n/a | Jan 20-Apr 1 Apr 1-Jun 10 Jun 10-Nov 1 | 19,010 6,337 0
Jig | 1.4 | 3,144 | n/a | Jan 1-Apr 30 Apr 30-Aug 31 Aug 31-Dec 31 | 1,887 629 629
¹ The gear shares and seasonal allowances for BSAI Pacific cod TAC are based on the sum of the BS and AI Pacific cod TACs. If the TAC for Pacific cod in either the AI or BS is reached, then directed fishing for Pacific cod in that subarea may be prohibited, even if a BSAI allowance remains.
² The ICA for the hook-and-line and pot sectors will be deducted from the aggregate portion of Pacific cod TAC allocated to the hook-and-line and pot sectors. The Regional Administrator proposes an ICA of 500 mt for 2017 and 2018 based on anticipated incidental catch in these fisheries.
³ The 2018 allocations for Amendment 80 species between Amendment 80 cooperatives and the Amendment 80 limited access sector will not be known until eligible participants apply for participation in the program by November 1, 2017.

Sablefish Gear Allocation

Section 679.20(a)(4)(iii) and (iv) requires allocation of sablefish TACs for the Bering Sea and AI subareas between trawl gear and hook-and-line or pot gear. Gear allocations of the TACs for the Bering Sea subarea are 50 percent for trawl gear and 50 percent for hook-and-line or pot gear. Gear allocations for the TACs for the AI subarea are 25 percent for trawl gear and 75 percent for hook-and-line or pot gear. Section 679.20(b)(1)(ii)(B) requires NMFS to apportion 20 percent of the hook-and-line or pot gear allocation of sablefish to the CDQ reserve. Additionally, § 679.20(b)(1)(ii)(D)(1) requires that 7.5 percent of the trawl gear allocation of sablefish from the nonspecified reserves, established under § 679.20(b)(1)(i), be apportioned to the CDQ reserve. The Council has recommended that only trawl sablefish TAC be established biennially. The harvest specifications for the hook-and-line gear and pot gear sablefish Individual Fishing Quota (IFQ) fisheries are limited to the 2017 fishing year to ensure those fisheries are conducted concurrently with the halibut IFQ fishery. Concurrent sablefish and halibut IFQ fisheries reduce the potential for discards of halibut and sablefish in those fisheries. The sablefish IFQ fisheries remain closed at the beginning of each fishing year until the final harvest specifications for the sablefish IFQ fisheries are in effect. Table 5 lists the proposed 2017 and 2018 gear allocations of the sablefish TAC and CDQ reserve amounts.

Table 5—Proposed 2017 and 2018 Gear Shares and CDQ Reserve of BSAI Sablefish TACS
[Amounts are in metric tons]
Subarea and gear | Percent of TAC | 2017 Share of TAC | 2017 ITAC ¹ | 2017 CDQ reserve | 2018 Share of TAC | 2018 ITAC | 2018 CDQ reserve
Bering Sea:
Trawl | 50 | 526 | 447 | 39 | 526 | 447 | 39
Hook-and-line gear ² | 50 | 526 | n/a | 105 | n/a | n/a | n/a
Total | 100 | 1,052 | 447 | 145 | 526 | 447 | 39
Aleutian Islands:
Trawl | 25 | 356 | 302 | 27 | 356 | 302 | 27
Hook-and-line gear ² | 75 | 1,067 | n/a | 213 | n/a | n/a | n/a
Total | 100 | 1,423 | 302 | 240 | 356 | 302 | 27
¹ Except for the sablefish hook-and-line or pot gear allocation, 15 percent of TAC is apportioned to the reserve. The ITAC is the remainder of the TAC after the subtraction of these reserves.
² For the portion of the sablefish TAC allocated to vessels using hook-and-line or pot gear, 20 percent of the allocated TAC is reserved for use by CDQ participants. Section 679.20(b)(1) does not provide for the establishment of an ITAC for sablefish allocated to hook-and-line or pot gear.
Note: Seasonal or sector apportionments may not total precisely due to rounding.

Allocation of the Aleutian Islands Pacific Ocean Perch, and BSAI Flathead Sole, Rock Sole, and Yellowfin Sole TACs

Section 679.20(a)(10)(i) and (ii) requires that NMFS allocate AI Pacific ocean perch, and BSAI flathead sole, rock sole, and yellowfin sole TACs between the Amendment 80 and BSAI trawl limited access sectors, after subtracting 10.7 percent for the CDQ reserve and an ICA for the BSAI trawl limited access sector and vessels using non-trawl gear. The allocation of the ITAC for AI Pacific ocean perch, and BSAI flathead sole, rock sole, and yellowfin sole to the Amendment 80 sector is established in Tables 33 and 34 to 50 CFR part 679 and in § 679.91.

Two Amendment 80 cooperatives have formed for the 2017 fishing year. Because all Amendment 80 vessels are part of a cooperative, no allocation to the Amendment 80 limited access sector is required. NMFS will post 2017 Amendment 80 cooperative allocations on the Alaska Region Web site at http://alaskafisheries.noaa.gov prior to the start of the fishing year on January 1, 2017, based on the harvest specifications effective on that date.

The 2018 allocations for Amendment 80 species between Amendment 80 cooperatives and the Amendment 80 limited access sector will not be known until eligible participants apply for participation in the program by November 1, 2017. NMFS will post 2018 Amendment 80 cooperatives and Amendment 80 limited access allocations on the Alaska Region Web site at http://alaskafisheries.noaa.gov prior to the start of the fishing year on January 1, 2018, based on the harvest specifications effective on that date. Table 6 lists the proposed 2017 and 2018 allocations of the AI Pacific ocean perch, and BSAI flathead sole, rock sole, and yellowfin sole TACs.

Table 6—Proposed 2017 and 2018 Community Development Quota (CDQ) Reserves, Incidental Catch Amounts (ICAS), and Amendment 80 Allocations of the Aleutian Islands Pacific Ocean Perch, and BSAI Flathead Sole, Rock Sole, and Yellowfin Sole TACS
[Amounts are in metric tons]
Sector | 2017 and 2018 allocations: Pacific ocean perch: Eastern Aleutian district | 2017 and 2018 allocations: Pacific ocean perch: Central Aleutian district | 2017 and 2018 allocations: Pacific ocean perch: Western Aleutian district | 2017 and 2018 allocations: Flathead sole: BSAI | 2017 and 2018 allocations: Rock sole: BSAI | 2017 and 2018 allocations: Yellowfin sole: BSAI
TAC | 7,537 | 7,000 | 9,000 | 21,000 | 57,100 | 144,000
CDQ | 806 | 749 | 963 | 2,247 | 6,110 | 15,408
ICA | 100 | 60 | 10 | 4,000 | 5,000 | 4,500
BSAI trawl limited access | 663 | 619 | 161 | 0 | 0 | 14,579
Amendment 80 | 5,967 | 5,572 | 7,866 | 14,753 | 45,990 | 109,513
Alaska Groundfish Cooperative for 2017 ¹ | 3,164 | 2,954 | 4,171 | 1,513 | 11,377 | 43,510
Alaska Seafood Cooperative for 2017 ¹ | 2,803 | 2,617 | 3,695 | 13,240 | 34,614 | 66,003
¹ The 2018 allocations for Amendment 80 species between Amendment 80 cooperatives and the Amendment 80 limited access sector will not be known until eligible participants apply for participation in the program by November 1, 2017.

Section 679.2 defines the ABC surplus for flathead sole, rock sole, and yellowfin sole as the difference between the annual ABC and TAC for each species. Section 679.20(b)(1)(iii) establishes ABC reserves for flathead sole, rock sole, and yellowfin sole. The ABC surpluses and the ABC reserves are necessary to mitigate the operational variability, environmental conditions, and economic factors that may constrain the CDQ groups and the Amendment 80 cooperatives from achieving, on a continuing basis, the optimum yield in the BSAI groundfish fisheries. NMFS, after consultation with the Council, may set the ABC reserve at or below the ABC surplus for each species thus maintaining the TAC below ABC limits. An amount equal to 10.7 percent of the ABC reserves will be allocated as CDQ reserves for flathead sole, rock sole, and yellowfin sole. The Amendment 80 ABC reserves shall be the ABC reserves minus the CDQ ABC reserves. Section 679.91(i)(2) establishes each Amendment 80 cooperative ABC reserve to be the ratio of each cooperatives' quota share units and the total Amendment 80 quota share units, multiplied by the Amendment 80 ABC reserve for each respective species. Table 7 lists the 2017 and 2018 ABC surplus and ABC reserves for BSAI flathead sole, rock sole, and yellowfin sole.

Table 7—Proposed 2017 and 2018 ABC Surplus, Community Development Quota (CDQ) ABC Reserves, and Amendment 80 ABC Reserves in the BSAI for Flathead Sole, Rock Sole, and Yellowfin Sole
[Amounts are in metric tons]
Sector | Flathead sole | Rock sole | Yellowfin sole
ABC | 64,580 | 145,000 | 203,500
TAC | 21,000 | 57,100 | 144,000
ABC surplus | 43,580 | 87,900 | 59,500
ABC reserve | 43,580 | 87,900 | 59,500
CDQ ABC reserve | 4,663 | 9,405 | 6,367
Amendment 80 ABC reserve | 38,917 | 78,495 | 53,134
Alaska Groundfish Cooperative for 2017 ¹ | 3,992 | 19,417 | 21,112
Alaska Seafood Cooperative for 2017 ¹ | 34,925 | 59,077 | 32,022
¹ The 2018 allocations for Amendment 80 species between Amendment 80 cooperatives and the Amendment 80 limited access sector will not be known until eligible participants apply for participation in the program by November 1, 2017.

Proposed PSC Limits for Halibut, Salmon, Crab, and Herring

Section 679.21(b), (e), (f), and (g) sets forth the BSAI PSC limits. Pursuant to § 679.21(b)(1), the 2017 and 2018 BSAI halibut PSC limits total 3,515 mt. Section 679.21(b)(1) allocates 315 mt of the halibut PSC limit as the PSQ reserve for use by the groundfish CDQ program, 1,745 mt of halibut PSC limit for the Amendment 80 sector, 745 mt of halibut PSC limit for the BSAI trawl limited access sector, and 710 mt of halibut mortality for the BSAI non-trawl sector.

Section 679.21(b)(1)(iii)(A) and (B) authorizes apportionment of the non-trawl halibut PSC limit into PSC allowances among six fishery categories, and § 679.21(b)(1)(ii)(A) and (B) and §§ 679.21(e)(3)(i)(B) and 679.21(e)(3)(iv) require apportionment of the BSAI trawl limited access halibut and crab PSC limits into PSC allowances among seven fishery categories. Table 10 lists the fishery PSC allowances for the BSAI trawl limited access fisheries, and Table 11 lists the fishery PSC allowances for the non-trawl fisheries.

Pursuant to Section 3.6 of the FMP, the Council recommends, and NMFS agrees, that certain specified non-trawl fisheries be exempt from the halibut PSC limit. As in past years, after consultation with the Council, NMFS exempts pot gear, jig gear, and the sablefish IFQ hook-and-line gear fishery categories from halibut bycatch restrictions for the following reasons: (1) The pot gear fisheries have low halibut bycatch mortality; (2) NMFS estimates halibut mortality for the jig gear fleet to be negligible because of the small size of the fishery and the selectivity of the gear; and (3) the sablefish and halibut IFQ fisheries have low halibut bycatch mortality because the IFQ program requires legal-size halibut to be retained by vessels using hook-and-line gear if a halibut IFQ permit holder or a hired master is aboard and is holding unused halibut IFQ (subpart D of 50 CFR part 679). As of November 2016, total groundfish catch for the pot gear fishery in the BSAI was 43,079 mt, with an associated halibut bycatch mortality of 2 mt.

The 2016 jig gear fishery harvested about 47 mt of groundfish. Most vessels in the jig gear fleet are exempt from observer coverage requirements. As a result, observer data are not available on halibut bycatch in the jig gear fishery. However, as mentioned above, NMFS estimates a negligible amount of halibut bycatch mortality because of the selective nature of jig gear and the low mortality rate of halibut caught with jig gear and released.

Under § 679.21(f)(2), NMFS annually allocates portions of either 33,318, 45,000, 47,591, or 60,000 Chinook salmon PSC limits among the AFA sectors, depending on past bycatch performance, on whether Chinook salmon bycatch incentive plan agreements (IPAs) are formed, and on whether NMFS determines it is a low Chinook salmon abundance year. NMFS will determine that it is a low Chinook salmon abundance year when abundance of Chinook salmon in western Alaska is less than or equal to 250,000 Chinook salmon. The State of Alaska provides to NMFS an estimate of Chinook salmon abundance using the 3-System Index for western Alaska based on the Kuskokwim, Unalakleet, and Upper Yukon aggregate stock grouping.

If an AFA sector participates in an approved IPA and it is not a low Chinook salmon abundance year, then NMFS will allocate a portion of the 60,000 PSC limit to that sector as specified in § 679.21(f)(3)(iii)(A). If no IPA is approved, or if the sector has exceeded its performance standard under § 679.21(f)(6), and it is not a low abundance year, NMFS will allocate a portion of the 47,591 Chinook salmon PSC limit to that sector as specified in § 679.21(f)(3)(iii)(C). If an AFA sector participates in an approved IPA in a low abundance year, then NMFS will allocate a portion of the 45,000 PSC limit to that sector as specified in § 679.21(f)(3)(iii)(B). If no IPA is approved, or if the sector has exceeded its performance standard under § 679.21(f)(6) in a low abundance year, NMFS will allocate a portion of the 33,318 Chinook salmon PSC limit to that sector as specified in § 679.21(f)(3)(iii)(D).

As of October 1, 2016, NMFS has determined that it is not a low Chinook salmon abundance year based on the State of Alaska's estimate that Chinook salmon abundance in western Alaska is greater than 250,000 Chinook salmon. Therefore, in 2017, the Chinook salmon PSC limit is 60,000, and the AFA sector Chinook salmon allocations are seasonally allocated with 70 percent of the allocation for the A season pollock fishery, and 30 percent of the allocation for the B season pollock fishery as stated in § 679.21(f)(3)(iii)(A). Additionally, in 2017, the Chinook salmon bycatch performance standard under § 679.21(f)(6) is 47,591 Chinook salmon, allocated to each sector as specified in § 679.21(f)(3)(iii)(C).

The basis for these PSC limits is described in detail in the final rule implementing management measures for Amendment 91 (75 FR 53026, August 30, 2010) and Amendment 110 (81 FR 37534, June 10, 2016). NMFS publishes the approved IPAs, allocations, and reports at http://alaskafisheries.noaa.gov/sustainablefisheries/bycatch/default.htm.

Section 679.21(g)(2)(i) specifies 700 fish as the 2017 and 2018 Chinook salmon PSC limit for the AI subarea pollock fishery. Section 679.21(g)(2)(ii) allocates 7.5 percent, or 53 Chinook salmon, as the AI subarea PSQ for the CDQ program and allocates the remaining 647 Chinook salmon to the non-CDQ fisheries.

Section 679.21(f)(14)(i) specifies 42,000 fish as the 2017 and 2018 non-Chinook salmon PSC limit in the Catcher Vessel Operational Area (CVOA). Section 679.21(f)(14)(ii) allocates 10.7 percent, or 4,494, non-Chinook salmon in the CVOA as the PSQ for the CDQ program, and allocates the remaining 37,506 non-Chinook salmon to the non-CDQ fisheries.

PSC limits for crab and herring are specified annually based on abundance and spawning biomass. Due to the lack of new information as of October 2016 regarding herring PSC limits and apportionments, the Council recommended and NMFS proposes basing the herring 2017 and 2018 PSC limits and apportionments on the 2015 survey data. The Council will reconsider these amounts in December 2016.

Section 679.21(e)(3)(i)(A)(1) allocates 10.7 percent of each trawl gear PSC limit specified for crab as a PSQ reserve for use by the groundfish CDQ program.

Based on 2016 survey data, the red king crab mature female abundance is estimated at 22.8 million red king crabs, which is above the threshold of 8.4 million red king crabs, and the effective spawning biomass is estimated at 42.2 million lbs (19,148 mt). Based on the criteria set out at § 679.21(e)(1)(i), the proposed 2017 and 2018 PSC limit of red king crab in Zone 1 for trawl gear is 97,000 animals. This limit derives from the mature female abundance estimate of more than 8.4 million red king crab and the effective spawning biomass estimate of more than 14.5 million lbs (6,577 mt) but less than 55 million lbs (24,948 mt).

Section 679.21(e)(3)(ii)(B)(2) establishes criteria under which NMFS must specify an annual red king crab bycatch limit for the Red King Crab Savings Subarea (RKCSS). The regulations limit the RKCSS to up to 25 percent of the red king crab PSC allowance based on the need to optimize the groundfish harvest relative to red king crab bycatch. NMFS proposes the Council's recommendation that the red king crab bycatch limit be equal to 25 percent of the red king crab PSC allowance within the RKCSS (Table 9).

Based on 2016 survey data, Tanner crab (Chionoecetes bairdi) abundance is estimated at 285 million animals. Pursuant to criteria set out at § 679.21(e)(1)(ii), the calculated 2017 and 2018 C. bairdi crab PSC limit for trawl gear is 830,000 animals in Zone 1, and 2,070,000 animals in Zone 2. In Zone 1, C. bairdi abundance was estimated to be greater than 270 million and less than 400 million animals. In Zone 2, C. bairdi abundance was estimated to be greater than 175 million animals and less than 290 million animals.

Pursuant to § 679.21(e)(1)(iii), the PSC limit for snow crab (C. opilio) is based on total abundance as indicated by the NMFS annual bottom trawl survey. The C. opilio crab PSC limit in the C. opilio bycatch limitation zone (COBLZ) is set at 0.1133 percent of the Bering Sea abundance index minus 150,000 crabs. Based on the 2016 survey estimate of 8.169 billion animals, the calculated C. opilio crab PSC limit is 9,105,477 animals.

Pursuant to § 679.21(e)(1)(v), the PSC limit of Pacific herring caught while conducting any trawl operation for BSAI groundfish is 1 percent of the annual eastern Bering Sea herring biomass. The best estimate of 2017 and 2018 herring biomass is 263,098 mt. This amount was developed by the Alaska Department of Fish and Game based on spawning location estimates. Therefore, the herring PSC limit proposed for 2017 and 2018 is 2,631 mt for all trawl gear as listed in Tables 8 and 9.

Section 679.21(e)(3)(i)(A) requires PSQ reserves to be subtracted from the total trawl PSC limits. The amount of the 2017 PSC limits assigned to the Amendment 80 and BSAI trawl limited access sectors are specified in Table 35 to 50 CFR part 679. The resulting allocations of PSC limits to CDQ PSQ, the Amendment 80 sector, and the BSAI trawl limited access sector are listed in Table 8. Pursuant to § 679.21(b)(1)(i), § 679.21(e)(3)(vi), and § 679.91(d) through (f), crab and halibut trawl PSC limits established for the Amendment 80 sector are then further established for Amendment 80 cooperatives as PSC cooperative quota as listed in Table 12. Two Amendment 80 cooperatives have formed for the 2017 fishing year. Because all Amendment 80 vessels are part of a cooperative, no allocation to the Amendment 80 limited access sector is required. NMFS will post 2017 Amendment 80 cooperative allocations on the Alaska Region Web site at http://alaskafisheries.noaa.gov prior to the start of the fishing year on January 1, 2017, based on the harvest specifications effective on that date.

The 2018 PSC limit allocations between Amendment 80 cooperatives and the Amendment 80 limited access sector will not be known until eligible participants apply for participation in the program by November 1, 2017. NMFS will post 2018 Amendment 80 cooperatives and Amendment 80 limited access allocations on the Alaska Region Web site at http://alaskafisheries.noaa.gov prior to the start of the fishing year on January 1, 2018, based on the harvest specifications effective on that date.

Section 679.21(b)(2) and (e)(5) authorizes NMFS, after consulting with the Council, to establish seasonal apportionments of PSC amounts for the BSAI trawl limited access and Amendment 80 limited access sectors to maximize the ability of the fleet to harvest the available groundfish TAC and to minimize bycatch. The factors considered are (1) seasonal distribution of prohibited species, (2) seasonal distribution of target groundfish species, (3) PSC bycatch needs on a seasonal basis relevant to prohibited species biomass, (4) expected variations in bycatch rates throughout the year, (5) expected changes in directed groundfish fishing seasons, (6) expected start of fishing effort, and (7) economic effects of seasonal PSC apportionments on industry sectors. The Council recommended and NMFS proposes the seasonal PSC apportionments in Table 10 to maximize harvest among gear types, fisheries, and seasons while minimizing bycatch of PSC based on the above criteria.

Table 8—Proposed 2017 and 2018 Apportionment of Prohibited Species Catch Allowances to Non-Trawl Gear, the CDQ Program, Amendment 80, and the BSAI Trawl Limited Access Sectors
PSC species and area ¹ | Non-trawl PSC | Total trawl PSC | Trawl PSC remaining after CDQ PSQ | CDQ PSQ reserve ² | Amendment 80 sector | BSAI trawl limited access fishery
Halibut mortality (mt) BSAI | 710 | 2,805 | n/a | 315 | 1,745 | 745
Herring (mt) BSAI | n/a | 2,631 | n/a | n/a | n/a | n/a
Red king crab (animals) Zone 1 | n/a | 97,000 | 86,621 | 10,379 | 43,293 | 26,489
C. opilio (animals) COBLZ | n/a | 9,105,477 | 8,131,191 | 974,286 | 3,996,480 | 2,613,365
C. bairdi crab (animals) Zone 1 | n/a | 830,000 | 741,190 | 88,810 | 312,115 | 348,285
C. bairdi crab (animals) Zone 2 | n/a | 2,070,000 | 1,848,510 | 221,490 | 437,542 | 865,288
¹ Refer to § 679.2 for definitions of zones.
² The PSQ reserve for crab species is 10.7 percent of each crab PSC limit.

Table 9—Proposed 2017 and 2018 Herring and Red King Crab Savings Subarea Prohibited Species Catch Allowances for All Trawl Sectors
Fishery categories | Herring (mt) BSAI | Red king crab (animals) Zone 1
Yellowfin sole | 179 | n/a
Rock sole/flathead sole/other flatfish ¹ | 29 | n/a
Greenland turbot/arrowtooth flounder/Kamchatka flounder/sablefish | 19 | n/a
Rockfish | 13 | n/a
Pacific cod | 40 | n/a
Midwater trawl pollock | 2,151 | n/a
Pollock/Atka mackerel/other species 2 3 | 199 | n/a
Red king crab savings subarea non-pelagic trawl gear ⁴ | n/a | 24,250
Total trawl PSC | 2,631 | 97,000
¹ “Other flatfish” for PSC monitoring includes all flatfish species, except for halibut (a prohibited species), arrowtooth flounder, flathead sole, Greenland turbot, Kamchatka flounder, rock sole, and yellowfin sole.
² Pollock other than midwater trawl pollock, Atka mackerel, and “other species” fishery category.
³ “Other species” for PSC monitoring includes sculpins, sharks, skates, squids, and octopuses.
⁴ In October 2016 the Council recommended that the red king crab bycatch limit for non-pelagic trawl fisheries within the RKCSS be limited to 25 percent of the red king crab PSC allowance (see § 679.21(e)(3)(ii)(B)(2)).
Note: Species apportionments may not total precisely due to rounding.

Table 10-Proposed 2017 and 2018 Prohibited Species Bycatch Allowances for the BSAI Trawl Limited Access Sector
BSAI trawl limited access fisheries | Prohibited species and area ¹: Halibut mortality (mt) BSAI | Prohibited species and area ¹: Red king crab (animals) Zone 1 | Prohibited species and area ¹: C. opilio (animals) COBLZ | Prohibited species and area ¹: C. bairdi (animals): Zone 1 | Prohibited species and area ¹: C. bairdi (animals): Zone 2
Yellowfin sole | 150 | 23,338 | 2,463,587 | 293,234 | 826,258
Rock sole/flathead sole/other flatfish ² | 0 | 0 |  | 0
Greenland turbot/arrowtooth flounder/Kamchatka flounder/sablefish | 0 | 0 |  | 0
Rockfish April 15-December 31 | 4 | 0 | 4,069 | 0 | 697
Pacific cod | 391 | 2,954 | 105,008 | 50,816 | 34,848
Pollock/Atka mackerel/other species ³ | 200 | 197 | 40,701 | 4,235 | 3,485
Total BSAI trawl limited access PSC | 745 | 26,489 | 2,613,365 | 348,285 | 865,288
¹ Refer to § 679.2 for definitions of areas.
² “Other flatfish” for PSC monitoring includes all flatfish species, except for halibut (a prohibited species), arrowtooth flounder, flathead sole, Greenland turbot, Kamchatka flounder, rock sole, and yellowfin sole.
³ “Other species” for PSC monitoring includes sculpins, sharks, skates, squids, and octopuses.
Note: Species apportionments may not total precisely due to rounding.

Table 11—Proposed 2017 and 2018 Halibut Prohibited Species Bycatch Allowances for Non-Trawl Fisheries
Halibut mortality (mt) BSAI: Non-trawl fisheries | Halibut mortality (mt) BSAI: Seasons | Halibut mortality (mt) BSAI: Catcher/ processor | Halibut mortality (mt) BSAI: Catcher vessel | Halibut mortality (mt) BSAI: All non-trawl
Pacific cod | Annual Pacific cod | 648 | 13 | n/a
| January 1-June 10 | 388 | 9 | n/a
| June 10-August 15 | 162 | 2 | n/a
| August 15-December 31 | 98 | 2 | n/a
Non-Pacific cod non-trawl—Total | May 1-December 31 | n/a | n/a | 49
Groundfish pot and jig | n/a | n/a | n/a | Exempt
Sablefish hook-and-line | n/a | n/a | n/a | Exempt
Total for all non-trawl PSC | n/a | n/a | n/a | 710

Table 12—Proposed 2017 Prohibited Species Bycatch Allowance for the BSAI Amendment 80 Cooperatives
Cooperative | Prohibited species and zones ¹: Halibut mortality (mt) BSAI | Prohibited species and zones ¹: Red king crab (animals) Zone 1 | Prohibited species and zones ¹: C. opilio (animals) COBLZ | Prohibited species and zones ¹: C. bairdi (animals): Zone 1 | Prohibited species and zones ¹: C. bairdi (animals): Zone 2
Alaska Groundfish Cooperative | 474 | 12,459 | 1,258,109 | 82,136 | 112,839
Alaska Seafood Cooperative | 1,271 | 30,834 | 2,738,371 | 229,979 | 324,703
Total | 1,745 | 43,293 | 3,996,480 | 312,115 | 437,542
¹ Refer to § 679.2 for definitions of zones.

Halibut Discard Mortality Rates (DMRs)

To monitor halibut bycatch mortality allowances and apportionments, the Regional Administrator uses observed halibut incidental catch rates, halibut discard mortality rates (DMRs), and estimates of groundfish catch to project when a fishery's halibut bycatch mortality allowance or seasonal apportionment is reached. Halibut incidental catch rates are based on observers' estimates of halibut incidental catch in the groundfish fishery. DMRs are estimates of the proportion of incidentally caught halibut that do not survive after being returned to the sea. The cumulative halibut mortality that accrues to a particular halibut PSC limit is the product of a DMR multiplied by the estimated halibut PSC. DMRs are estimated using the best information available in conjunction with the annual BSAI stock assessment process. The DMR methodology and findings are included as an appendix to the annual BSAI groundfish SAFE report.

Historically, DMRs consisted of long-term averages of annual DMRs within target fisheries that were defined by management area, CDQ, gear, and target species. Since the late 1990s, halibut DMRs were calculated by the International Pacific Halibut Commission (IPHC), which then provided the estimates to the NMFS for application in managing halibut bycatch limits. DMRs specified through the Council process and used for catch accounting by NMFS have consisted of long-term averages of annual estimates within target fisheries that are defined by management area, CDQ, gear, and target species. Long-term averages are taken from annual estimates for the most recent ten-year period with the number of years with data to support annual DMR estimates varying among fisheries. Fishery-specific DMRs, once calculated, have generally been put in place for three-year increments.

NMFS proposes to revise methods for estimating DMRs consistent with those methods developed by the halibut DMR working group and recommended by the Council at its October 2016 meeting. NMFS proposes for the 2017 and 2018 BSAI groundfish harvest specifications revised DMRs consistent with modified DMR estimation methodology. The proposed change will make the DMR process transparent, transferable, and allow for review by all agencies/entities involved. The Alaska Region will program the revised DMRs into its groundfish catch accounting system to monitor the 2017 and 2018 halibut bycatch allowances (see Tables 8, 10, 11, and 12). The DMRs proposed for 2017 and 2018 BSAI groundfish harvest specifications reflect an ongoing effort by the Council to improve the estimation of DMRs in the Alaska groundfish fisheries.

The halibut DMR working group, consisting of the IPHC, Council, and NMFS Alaska Region staff, recommended the following broad changes to the DMR estimation method: Implementation of sampling design consistent with sampling protocols used under the Observer Restructuring Program; categorization of data of halibut viability based on vessel operations (sorting and handling practices, gear type, and processing sector) rather than target fisheries; and revision of reference timeframes to obtain estimates that are more responsive to changes in how the groundfish fisheries are observed and managed. These recommendations, and others, are described below.

• Incorporate CDQ with non-CDQ in the calculation of the DMRs instead of the currently specified DMRs, which calculate DMRs separately for CDQ and non-CDQ. Regulations allow assignment of CDQ status to a haul up to two hours after completion of gear retrieval. Most vessels fishing under the CDQ program also participate in the non-CDQ fisheries. The size of the haul, fishing operations, and catch-handling process do not tend to differ compared to the non-CDQ fisheries. For this reason, CDQ is not a recommended aggregation factor for estimating DMRs under the revised estimation method.

• Revise the DMR estimation methodology for consistency with the sampling protocols instituted in 2013 through the restructured Observer Program. The Observer Program randomizes sampling of fishing trips within operational groupings, sampling of hauls within fishing trips, and sampling of biological data within hauls. Basing halibut DMR estimation on a sampling design consistent with Observer Program sampling protocols should reduce the potential for sampling bias, improve data on operational causes of variation in post-capture halibut viability, and promote the ability for NMFS to make timely improvements to halibut DMR estimation in the future.

• Incorporate the use of vessel operations into DMR estimation methodology. This incorporates data about the viability (likelihood to survive) of discarded halibut into DMR calculations. Data based on different vessel operational categories, such as sorting practices, handling practices, gear type, and processing sectors (i.e. CVs, CPs, and CVs delivering to motherships), provide better information on halibut viability. NMFS expects that incorporating this information into the DMR estimation methodology will yield a more precise estimate of actual mortality.

• Remove the use of target fishery. Fishery targets do not necessarily characterize statistical and/or vessel operational differences in the sampling or handling of halibut PSC. Using fishery target aggregations may have reduced the quality of DMR estimates due to small sample sizes or by combining vessel operations with very important differences in sampling and handling characteristics.

• Change the reference time-frame for DMR calculations. Rather than using 10-year average rates, the revised methodology estimates DMRs based on initial 3-year average rates. Using 2013 as the starting year is more responsive to, and better aligns DMR calculation methodology with, the 2013 restructured Observer Program's sampling protocols. Using 2013 as the base year, NMFS and the Council will evaluate the time frame each year. Evaluating the time frame each year will enable NMFS and the Council to update the methodology and the halibut DMRs based on the best available information.

The working group's discussion paper also included a comparison of the total amount of halibut mortality that accrues using current DMRs versus the working group's recommended DMRs. Calculating the 2015 halibut mortality using specified DMRs yielded 2,312 mt of halibut mortality, whereas using the recommended DMRs yielded 2,299 mt of halibut morality (a less than one-percent decrease). Calculating the 2016 halibut mortality (through September 2016) yielded 1,701 mt of halibut mortality, versus 1,663 mt of halibut mortality when applying the recommended DMRs (a two percent decrease).

These proposed estimation methods, and recommendations for 2017 and 2018 halibut DMRs, were presented to the Plan Team in September 2016. The Plan Team concurred with the revised methodology, as well as the working group's halibut DMR recommendations for 2017 and 2018. The Council agreed with these recommendations at the Council's October 2016 meeting. Additionally, in April 2016 the SSC reviewed the methodology and made a number of suggestions for improving and refining it. The working group has incorporated those suggestions into its DMR estimation methodology. The working group's discussion of the revised halibut DMR methodology, including the comparative assessment, is available from the Council (see ADDRESSES). Table 13 lists the proposed 2017 and 2018 DMRs.

Table 13—Proposed 2017 and 2018 Pacific Halibut Discard Mortality Rates for the BSAI
Gear | Sector | Groundfish fishery | Halibut discard mortality rate (percent)
Pelagic trawl | All | All | 100
Non-pelagic trawl | Catcher/Processor and Mothership | All | 85
Non-pelagic trawl | Catcher vessel | All | 52
Hook-and-line | Catcher vessel | All | 13
Hook-and-line | Catcher/Processor | All | 8
Pot | All | All | 5

Listed AFA Catcher/Processor Sideboard Limits

Pursuant to § 679.64(a), the Regional Administrator is responsible for restricting the ability of listed AFA catcher/processors to engage in directed fishing for groundfish species other than pollock, to protect participants in other groundfish fisheries from adverse effects resulting from the AFA and from fishery cooperatives in the directed pollock fishery. These restrictions are set out as “sideboard” limits on catch. The basis for these proposed sideboard limits is described in detail in the final rules implementing the major provisions of the AFA (67 FR 79692, December 30, 2002) and Amendment 80 (72 FR 52668, September 14, 2007). Table 14 lists the proposed 2017 and 2018 catcher/processor sideboard limits.

All harvests of groundfish sideboard species by listed AFA catcher/processors, whether as targeted catch or incidental catch, will be deducted from the sideboard limits in Table 14. However, groundfish sideboard species that are delivered to listed AFA catcher/processors by catcher vessels will not be deducted from the 2017 and 2018 sideboard limits for the listed AFA catcher/processors.

Table 14—Proposed 2017 and 2018 BSAI Groundfish Sideboard Limits for Listed American Fisheries Act Catcher/Processors (C/Ps)
[Amounts are in metric tons]
Target species | Area | 1995-1997: Retained catch | 1995-1997: Total catch | 1995-1997: Ratio of retained catch to total catch | 2017 and 2018 ITAC available to all trawl C/Ps ¹ | 2017 and 2018 AFA C/P sideboard limit
Sablefish trawl | BS | 8 | 497 | 0.016 | 447 | 7
| AI | 0 | 145 | 0 | 302 | 0
Greenland turbot | BS | 121 | 17,305 | 0.007 | 2,272 | 16
| AI | 23 | 4,987 | 0.005 | 170 | 1
Arrowtooth flounder | BSAI | 76 | 33,987 | 0.002 | 11,900 | 24
Kamchatka flounder | BSAI | 76 | 33,987 | 0.002 | 4,250 | 9
Rock sole | BSAI | 6,317 | 169,362 | 0.037 | 50,990 | 1,887
Flathead sole | BSAI | 1,925 | 52,755 | 0.036 | 18,753 | 675
Alaska plaice | BSAI | 14 | 9,438 | 0.001 | 12,325 | 12
Other flatfish | BSAI | 3,058 | 52,298 | 0.058 | 2,125 | 123
Pacific ocean perch | BS | 12 | 4,879 | 0.002 | 6,760 | 14
| Eastern AI | 125 | 6,179 | 0.02 | 6,731 | 135
| Central AI | 3 | 5,698 | 0.001 | 6,251 | 6
| Western AI | 54 | 13,598 | 0.004 | 8,037 | 32
Northern rockfish | BSAI | 91 | 13,040 | 0.007 | 3,825 | 27
Rougheye rockfish | EBS/EAI | 50 | 2,811 | 0.018 | 85 | 2
| CAI/WAI | 50 | 2,811 | 0.018 | 170 | 3
Shortraker rockfish | BSAI | 50 | 2,811 | 0.018 | 170 | 3
Other rockfish | BS | 18 | 621 | 0.029 | 276 | 8
| AI | 22 | 806 | 0.027 | 468 | 13
Atka mackerel | Central AI | n/a | n/a | 0.115 | 14,288 | 1,643
| A season ² | n/a | n/a | 0.115 | 7,144 | 822
| B season ² | n/a | n/a | 0.115 | 7,144 | 822
| Western AI | n/a | n/a | 0.2 | 9,377 | 1,875
| A season ² | n/a | n/a | 0.2 | 4,689 | 938
| B season ² | n/a | n/a | 0.2 | 4,689 | 938
Skates | BSAI | 553 | 68,672 | 0.008 | 22,100 | 177
Sculpins | BSAI | 553 | 68,672 | 0.008 | 3,825 | 31
Sharks | BSAI | 553 | 68,672 | 0.008 | 106 | 1
Squids | BSAI | 73 | 3,328 | 0.022 | 1,275 | 28
Octopuses | BSAI | 553 | 68,672 | 0.008 | 340 | 3
¹ Aleutians Islands Pacific ocean perch, and BSAI Atka mackerel, flathead sole, rock sole, and yellowfin sole are multiplied by the remainder of the TAC after the subtraction of the CDQ reserve under § 679.20(b)(1)(ii)(C).
² The seasonal apportionment of Atka mackerel in the open access fishery is 50 percent in the A season and 50 percent in the B season. Listed AFA catcher/processors are limited to harvesting no more than zero in the Eastern Aleutian District and Bering Sea subarea, 20 percent of the annual ITAC specified for the Western Aleutian District, and 11.5 percent of the annual ITAC specified for the Central Aleutian District.
Note: Section 679.64(a)(1)(v) exempts AFA catcher/processors from a yellowfin sole sideboard limit because the 2017 and 2018 aggregate ITAC of yellowfin sole assigned to the Amendment 80 sector and BSAI trawl limited access sector is greater than 125,000 mt.

Section 679.64(a)(2) and Tables 40 and 41 to 50 CFR part 679 establish a formula for calculating PSC sideboard limits for listed AFA catcher/processors. The basis for these sideboard limits is described in detail in the final rules implementing the major provisions of the AFA (67 FR 79692, December 30, 2002) and Amendment 80 (72 FR 52668, September 14, 2007).

PSC species listed in Table 15 that are caught by listed AFA catcher/processors participating in any groundfish fishery other than pollock will accrue against the proposed 2017 and 2018 PSC sideboard limits for the listed AFA catcher/processors. Section 679.21(b)(4)(iii) and (e)(3)(v) authorizes NMFS to close directed fishing for groundfish other than pollock for listed AFA catcher/processors once a proposed 2017 or 2018 PSC sideboard limit listed in Table 15 is reached.

Crab or halibut PSC caught by listed AFA catcher/processors while fishing for pollock will accrue against the PSC allowances annually specified for either the midwater pollock or the pollock/Atka mackerel/“other species” fishery categories, according to § 679.21(b)(1)(ii)(B) and § 679.21(e)(3)(iv).

Table 15—Proposed 2017 and 2018 BSAI Prohibited Species Sideboard Limits for American Fisheries Act Listed Catcher/Processors
PSC species and area ¹ | Ratio of PSC to total PSC | Proposed 2017 and 2018 PSC available to trawl vessels after subtraction of PSQ ² | Proposed 2017 and 2018 C/P sideboard limit ²
BSAI Halibut mortality | n/a | n/a | 286
Red king crab Zone 1 | 0.007 | 86,621 | 606
C. opilio (COBLZ) | 0.153 | 8,131,191 | 1,224,072
C. bairdi | n/a | n/a | n/a
Zone 1 | 0.14 | 741,190 | 103,767
Zone 2 | 0.05 | 1,848,510 | 92,426
¹ Refer to § 679.2 for definitions of areas.
² Halibut amounts are in metric tons of halibut mortality. Crab amounts are in numbers of animals.

AFA Catcher Vessel Sideboard Limits

Pursuant to § 679.64(b), the Regional Administrator is responsible for restricting the ability of AFA catcher vessels to engage in directed fishing for groundfish species other than pollock to protect participants in other groundfish fisheries from adverse effects resulting from the AFA and from fishery cooperatives in the directed pollock fishery. Section 679.64(b) establishes formulas for setting AFA catcher vessel groundfish and PSC sideboard limits for the BSAI. The basis for these sideboard limits is described in detail in the final rules implementing the major provisions of the AFA (67 FR 79692, December 30, 2002) and Amendment 80 (72 FR 52668, September 14, 2007). Tables 16 and 17 list the proposed 2017 and 2018 AFA catcher vessel sideboard limits.

All catch of groundfish sideboard species made by non-exempt AFA catcher vessels, whether as targeted catch or as incidental catch, will be deducted from the 2017 and 2018 sideboard limits listed in Table 16.

Table 16—Proposed 2017 and 2018 BSAI Groundfish Sideboard Limits for American Fisheries Act Catcher Vessels (CVs)
[Amounts are in metric tons]
Species | Fishery by area/gear/season | Ratio of 1995-1997 AFA CV catch to 1995-1997 TAC | 2017 and 2018 initial TAC ¹ | 2017 and 2018 AFA catcher vessel sideboard limits
Pacific cod | BSAI | n/a | n/a | n/a
| Jig gear | 0 | 3,144 | 0
| Hook-and-line CV | n/a | n/a | n/a
| Jan 1-Jun 10 | 0.0006 | 228 | 0
| Jun 10-Dec 31 | 0.0006 | 219 | 0
| Pot gear CV | n/a | n/a | n/a
| Jan 1-Jun 10 | 0.0006 | 9,587 | 6
| Sept 1-Dec 31 | 0.0006 | 9,211 | 6
| CV <60 ft LOA using hook-and-line or pot gear | 0.0006 | 4,476 | 3
| Trawl gear CV | n/a | n/a | n/a
| Jan 20-Apr 1 | 0.8609 | 36,732 | 31,623
| Apr 1-Jun 10 | 0.8609 | 5,460 | 4,701
| Jun 10-Nov 1 | 0.8609 | 7,446 | 6,410
Sablefish | BS trawl gear | 0.0906 | 447 | 40
| AI trawl gear | 0.0645 | 302 | 19
Greenland turbot | BS | 0.0645 | 2,272 | 147
| AI | 0.0205 | 170 | 3
Arrowtooth flounder | BSAI | 0.069 | 11,900 | 821
Kamchatka flounder | BSAI | 0.069 | 4,250 | 293
Rock sole | BSAI | 0.0341 | 50,990 | 1,739
Flathead sole | BS trawl gear | 0.0505 | 18,753 | 947
Alaska plaice | BSAI | 0.0441 | 12,325 | 544
Other flatfish | BSAI | 0.0441 | 2,125 | 94
Pacific ocean perch | BS | 0.1 | 6,760 | 676
| Eastern AI | 0.0077 | 6,731 | 52
| Central AI | 0.0025 | 6,251 | 16
| Western AI | 0 | 8,037 | 0
Northern rockfish | BSAI | 0.0084 | 3,825 | 32
Rougheye rockfish | EBS/EAI | 0.0037 | 85 | 0
| CAI/WAI | 0.0037 | 170 | 1
Shortraker rockfish | BSAI | 0.0037 | 170 | 1
Other rockfish | BS | 0.0048 | 276 | 1
| AI | 0.0095 | 468 | 4
Atka mackerel | Eastern AI/BS | n/a | 25,451 | n/a
| Jan 1-Jun 10 | 0.0032 | 12,726 | 41
| Jun 10-Nov 1 | 0.0032 | 12,726 | 41
| Central AI | n/a | 14,288 | n/a
| Jan 1-Jun 10 | 0.0001 | 7,144 | 1
| Jun 10-Nov 1 | 0.0001 | 7,144 | 1
| Western AI | n/a | 9,377 | n/a
| Jan 1-Jun 10 | 0 | 4,689 | 0
| Jun 10-Nov 1 | 0 | 4,689 | 0
Skates | BSAI | 0.0541 | 22,100 | 1,196
Sculpins | BSAI | 0.0541 | 3,825 | 207
Sharks | BSAI | 0.0541 | 106 | 6
Squids | BSAI | 0.3827 | 1,275 | 488
Octopuses | BSAI | 0.0541 | 340 | 18
¹ Aleutians Islands Pacific ocean perch, Atka mackerel, flathead sole, rock sole, and yellowfin sole are multiplied by the remainder of the TAC of that species after the subtraction of the CDQ reserve under § 679.20(b)(1)(ii)(C).
Note: Section 679.64(b)(6) exempts AFA catcher vessels from a yellowfin sole sideboard limit because the 2017 and 2018 aggregate ITAC of yellowfin sole assigned to the Amendment 80 sector and BSAI trawl limited access sector is greater than 125,000 mt.

Halibut and crab PSC limits listed in Table 17 that are caught by AFA catcher vessels participating in any groundfish fishery other than pollock will accrue against the 2017 and 2018 PSC sideboard limits for the AFA catcher vessels. Section 679.21(b)(4)(iii), (e)(7), and (e)(3)(v) authorizes NMFS to close directed fishing for groundfish other than pollock for AFA catcher vessels once a proposed 2017 and 2018 PSC sideboard limit listed in Table 17 is reached. The PSC that is caught by AFA catcher vessels while fishing for pollock in the Bering Sea subarea will accrue against the bycatch allowances annually specified for either the midwater pollock or the pollock/Atka mackerel/“other species” fishery categories under § 679.21(b)(1)(ii)(B) and § 679.21(e)(3)(iv).

Table 17—Proposed 2017 and 2018 American Fisheries Act Catcher Vessel Prohibited Species Catch Sideboard Limits for the BSAI ¹
PSC species and area ¹ | Target fishery category ² | AFA catcher vessel PSC sideboard limit ratio | Proposed 2017 and 2018 PSC limit after subtraction of PSQ reserves ³ | Proposed 2017 and 2018 AFA catcher vessel PSC sideboard limit ³
Halibut | Pacific cod trawl | n/a | n/a | 887
| Pacific cod hook-and-line or pot | n/a | n/a | 2
| Yellowfin sole total | n/a | n/a | 101
| Rock sole/flathead sole/other flatfish ⁴ | n/a | n/a | 228
| Greenland turbot/arrowtooth/Kamchatka flounder/sablefish | n/a | n/a | 0
| Rockfish | n/a | n/a | 2
| Pollock/Atka mackerel/other species ⁵ | n/a | n/a | 5
Red king crab Zone 1 | n/a | 0.299 | 86,621 | 25,900
C. opilio COBLZ | n/a | 0.168 | 8,131,191 | 1,366,040
C. bairdi Zone 1 | n/a | 0.33 | 741,190 | 244,593
C. bairdi Zone 2 | n/a | 0.186 | 1,848,510 | 343,823
¹ Refer to § 679.2 for definitions of areas.
² Target fishery categories are defined at § 679.21(b)(1)(ii)(B).
³ Halibut amounts are in metric tons of halibut mortality. Crab amounts are in numbers of animals.
⁴ “Other flatfish” for PSC monitoring includes all flatfish species, except for halibut (a prohibited species), arrowtooth flounder, flathead sole, Greenland turbot, rock sole, and yellowfin sole.
⁵ “Other species” for PSC monitoring includes skates, sculpins, sharks, and octopuses.

Classification

NMFS has determined that the proposed harvest specifications are consistent with the FMP and preliminarily determined that the proposed harvest specifications are consistent with the Magnuson-Stevens Act and other applicable laws, and subject to further review after public comment.

This action is authorized under 50 CFR 679.20 and is exempt from review under Executive Orders 12866 and 13563.

NMFS prepared an EIS for this action and made it available to the public on January 12, 2007 (72 FR 1512). On February 13, 2007, NMFS issued the Record of Decision (ROD) for the Final EIS. A Supplemental Information Report (SIR) that assesses the need to prepare a Supplemental EIS is being prepared for the final action. Copies of the Final EIS, ROD, and SIR for this action are available from NMFS (see ADDRESSES). The Final EIS analyzes the environmental consequences of the proposed groundfish harvest specifications and alternative harvest strategies on resources in the action area. The Final EIS found no significant environmental consequences from the proposed action or its alternatives.

NMFS prepared an Initial Regulatory Flexibility Analysis (IRFA), as required by section 603 of the Regulatory Flexibility Act (RFA), analyzing the methodology for establishing the relevant TACs. The IRFA evaluates the impacts on small entities of alternative harvest strategies for the groundfish fisheries in the exclusive economic zone off Alaska. As set forth in the methodology, TACs are set to a level that falls within the range of ABCs recommended by the SSC; the sum of the TACs must achieve OY specified in the FMP. While the specific numbers that the methodology may produce vary from year to year, the methodology itself remains constant.

A description of the proposed action, why it is being considered, and the legal basis for this proposed action are contained in the preamble above. A copy of the analysis is available from NMFS (see ADDRESSES). A summary of the IRFA follows.

The action under consideration is a harvest strategy to govern the catch of groundfish in the BSAI. The preferred alternative is the existing harvest strategy in which TACs fall within the range of ABCs recommended by the SSC, but, as discussed below, NMFS considered other alternatives. This action is taken in accordance with the FMP prepared by the Council pursuant to the Magnuson-Stevens Act.

The entities directly regulated by this action are those that harvest groundfish in the exclusive economic zone of the BSAI and in parallel fisheries within State waters. These include entities operating catcher vessels and catcher/processors within the action area and entities receiving direct allocations of groundfish.

For RFA purposes only, NMFS has established a small business size standard for businesses, including their affiliates, whose primary industry is commercial fishing (see 50 CFR 200.2). A business primarily engaged in commercial fishing (NAICS code 11411) is classified as a small business if it is independently owned and operated, is not dominant in its field of operation (including its affiliates), and has combined annual receipts not in excess of $11 million for all its affiliated operations worldwide.

The estimated directly regulated small entities in 2015 include approximately 152 catcher vessels, four catcher/processors, and six CDQ groups. Some of these vessels are members of AFA inshore pollock cooperatives, Gulf of Alaska rockfish cooperatives, or BSAI Crab Rationalization Program cooperatives, and, since under the RFA it is the aggregate gross receipts of all participating members of the cooperative that must meet the “under $11 million” threshold, they are considered to be large entities within the meaning of the RFA. Thus, the estimate of 152 catcher vessels may be an overstatement of the number of small entities. Average gross revenues were $520,000 for small hook-and-line vessels, $1.29 million for small pot vessels, and $2.99 million for small trawl vessels. Revenue data for catcher/processors is confidential; however, in 2015, NMFS estimates that there were four catcher/processor small entities with gross receipts less than $11 million.

The preferred alternative (Alternative 2) was compared to four other alternatives. Alternative 1 would have set TACs to generate fishing rates equal to the maximum permissible ABC (if the full TAC were harvested), unless the sum of TACs exceeded the BSAI OY, in which case TACs would have been limited to the OY. Alternative 3 would have set TACs to produce fishing rates equal to the most recent 5-year average fishing rates. Alternative 4 would have set TACs equal to the lower limit of the BSAI OY range. Alternative 5, the “no action” alternative, would have set TACs equal to zero.

The TACs associated with the preferred harvest strategy are those adopted by the Council in October 2016, as per Alternative 2. OFLs and ABCs for the species were based on recommendations prepared by the Council's BSAI Groundfish Plan Team in September 2016, and reviewed and modified by the Council's SSC in October 2016. The Council based its TAC recommendations on those of its AP, which were consistent with the SSC's OFL and ABC recommendations.

Alternative 1 selects harvest rates that would allow fishermen to harvest stocks at the level of ABCs, unless total harvests were constrained by the upper bound of the BSAI OY of two million mt. As shown in Table 1 of the preamble, the sum of ABCs in 2017 and 2018 would be about 3,128,135 mt, which falls above the upper bound of the OY range. The sum of TACs is equal to the sum of ABCs. In this instance, Alternative 1 is consistent with the preferred alternative (Alternative 2), meets the objectives of that action, and has small entity impacts that are equivalent to the preferred alternative.

Alternative 3 selects harvest rates based on the most recent 5 years of harvest rates (for species in Tiers 1 through 3) or for the most recent 5 years of harvests (for species in Tiers 4 through 6). This alternative is inconsistent with the objectives of this action, (the Council's preferred harvest strategy) because it does not take account of the most recent biological information for this fishery. NMFS annually conducts at-sea stock surveys for different species, as well as statistical modeling, to estimate stock sizes and permissible harvest levels. Actual harvest rates or harvest amounts are a component of these estimates, but in and of themselves may not accurately portray stock sizes and conditions. Harvest rates are listed for each species category for each year in the SAFE report (see ADDRESSES).

Alternative 4 would lead to significantly lower harvests of all species and reduce TACs from the upper end of the OY range in the BSAI, to its lower end of 1.4 million mt. Overall, this would reduce 2017 TACs by about 30 percent, which would lead to significant reductions in harvests of species by small entities. While reductions of this size would be associated with offsetting price increases, the size of these increases is very uncertain. While production declines in the BSAI would undoubtedly be associated with significant price increases in the BSAI, these increases would still be constrained by production of substitutes, and are very unlikely to offset revenue declines from smaller production. Thus, this alternative action would have a detrimental impact on small entities.

Alternative 5, which sets all harvests equal to zero, would have a significant adverse impact on small entities and would be contrary to obligations to achieve OY on a continuing basis, as mandated by the Magnuson-Stevens Act.

The proposed harvest specifications extend the current 2017 OFLs, ABCs, and TACs to 2017 and 2018. As noted in the IRFA, the Council may modify these OFLs, ABCs, and TACs in December 2016, when it reviews the November 2016 SAFE report from its groundfish Plan Team, and the December Council meeting reports of its SSC and AP. Because 2017 TACs in the proposed 2017 and 2018 harvest specifications are unchanged from the 2017 harvest specification TACs, NMFS does not expect adverse impacts on small entities. Also, NMFS does not expect any changes made by the Council in December 2016 to be large enough to have an impact on small entities.

This action does not modify recordkeeping or reporting requirements, or duplicate, overlap, or conflict with any Federal rules.

Adverse impacts on marine mammals resulting from fishing activities conducted under these harvest specifications are discussed in the Final EIS (see ADDRESSES), and in the 2016 SIR (https://alaskafisheries.noaa.gov/sites/default/files/sir-2016-17.pdf).

Authority: 16 U.S.C. 773 et seq.; 16 U.S.C. 1540(f); 16 U.S.C. 1801 et seq.; 16 U.S.C. 3631 et seq.; Pub. L. 105-277; Pub. L. 106-31; Pub. L. 106-554; Pub. L. 108-199; Pub. L. 108-447; Pub. L. 109-241; Pub. L. 109-479.

Dated: November 30, 2016.
Samuel D. Rauch III,
Deputy Assistant Administrator for Regulatory Programs, National Marine Fisheries Service.

[FR Doc. 2016-29152 Filed 12-5-16; 8:45 am]

BILLING CODE 3510-22-P